FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel-Operating Common Carrier Ocean Transportation Intermediary Applicants

CPS International Inc., 1869 N.W. 97th Street, Miami, FL 33172, Officers: Rodrigo Cordon, President (Qualifying Individual) Alberto Ubilla, Vice President

K-Way Express, 9000 Bellanca Ave., #110, Los Angeles, CA 90045, Kenny Kyusup Kim, Sole Proprietor

CMS Shipping Co., 11099 S. La Cienega Blvd., Suite 246, Los Angeles, CA 90045, Chi M. Hwang, Sole Proprietor

Non-Vessel Operating Common Carrier and Ocean Freight Forwarder Transportation Intermediary Applicants

Ambert Inc. d/b/a African Express Lines, 249 Merrifield Avenue, Oceanside, NY 11572, Officer: Selina Megertichian, President (Qualifying Individual)

Ocean Freight Forwarders—Ocean Transportation Intermediary Applicants

Kudley Trans-Port International, Inc., 1100 Cesery Blvd., #5, Jacksonville, FL 32211, Officers: Frank M. Walters, Vice President (Qualifying Individual); David D. Rudley, President

Dated: April 7, 2000.
Bryant L. VanBrakle,
Secretary.

[FR Doc. 00-9101 Filed 4-11-00; 8:45 am]

BILLING CODE 6730-01-P